FEDERAL MARITIME COMMISSION

46 CFR Part 502

[Docket No. 14-09]

RIN 3072-AC57

Informal Procedure for Adjudication of Small Claims

AGENCY: Federal Maritime Commission.

ACTION: Direct final rule; request for comments.

SUMMARY: The Federal Maritime Commission (Commission) amends its regulations concerning the adjudication of small claims filed with the Commission seeking reparations in the amount of $50,000 or less for violation of the Shipping Act of 1984. The rule transfers responsibility for the assignment of these claims from the Alternative Dispute Resolution Specialist to the Chief Administrative Law Judge.

DATES: This rule is effective November 7, 2014 without further action, unless significant adverse comment is received by September 8, 2014. If significant adverse comment is received, the Federal Maritime Commission will publish a timely withdrawal of the rule in the Federal Register.

ADDRESSES: Submit comments to: Karen V. Gregory, Secretary, Federal Maritime Commission, 800 North Capitol Street NW., Washington, DC 20573-0001, or email non-confidential comments to: Secretary@fmc.gov (email comments as attachments, preferably in Microsoft Word or PDF).

FOR FURTHER INFORMATION CONTACT: Karen V. Gregory, Secretary, Federal Maritime Commission, 800 North Capitol Street NW., Washington, DC 20573-0001, (202) 523-5725, Email: Secretary@fmc.gov.

SUPPLEMENTARY INFORMATION: Submit Comments: Include in the subject line: Docket No. 14-09, Informal Procedure for Adjudication of Small Claims. Non-confidential filings may be submitted in hard copy or as a Microsoft Word or PDF attachment addressed to secretary@fmc.gov. Confidential filings must be accompanied by a transmittal letter that identifies the filing as “confidential” and describes the nature and extent of the confidential treatment requested. Any comment that contains confidential information must consist of the complete filing and be marked by the filer as “Confidential-Restricted,” with the material claimed to be confidential clearly marked on each page. The Commission will provide confidential treatment to the extent allowed by law for submissions, or parts of submissions, for which the filer requests confidentiality. A public version must be submitted with the confidential version if applicable. Questions regarding filing or treatment of confidential responses to this notice should be directed to the Commission's Secretary, Karen V. Gregory, at the telephone number or email provided in this notice.

The Commission expects the amendments to be noncontroversial as they address the Commission's internal procedures. Therefore, pursuant to 5 U.S.C. 553, notice and comment are not required and this rule may become effective after publication in the Federal Register unless the Commission receives significant adverse comments within the specified period. The Commission recognizes that parties may have information that could impact the Commission's views and intentions with respect to the revised internal procedures, and the Commission intends to consider any comments filed. The Commission will withdraw the rule if it receives significant adverse comments. Filed comments that are not adverse may be considered for modifications to part 502 at a future date. If no significant adverse comment is received, the rule will become effective without additional action.

This direct final rule is not a “major rule” under 5 U.S.C. 804(2). No notice of proposed rulemaking is required; therefore, the provisions of the Regulatory Flexibility Act, 5 U.S.C. 601 et seq., do not apply.

Pursuant to Section 11(a) of the Shipping Act of 1984 (46 U.S.C. 41301(a)), a person may file a complaint with the Commission claiming a violation of the Shipping Act of 1984 and may seek reparations for an injury caused by the violation. With the consent of both parties, claims in the amount of $50,000 or less are decided without the necessity of formal procedures under the Commission's rules.

The current rules provide that claims less than $50,000 will be decided by a Settlement Officer appointed by the Commission's Alternative Dispute Resolution Specialist. The new rules provide that claims in the amount of $50,000 or less will be decided by a Small Claims Officer appointed by the Commission's Chief Administrative Law Judge.

List of Subjects in 46 CFR Part 502

Administrative practice and procedure, Claims, Equal access to justice, Investigations, Lawyers, Maritime carriers, Penalties, Reporting and recordkeeping requirements.

For the reasons stated in the preamble, the Federal Maritime Commission amends 46 CFR Part 502, Subpart S as follows:

PART 502—RULES OF PRACTICE AND PROCEDURE

1. The authority citation for part 502 continues to read as follows:

Authority: 5 U.S.C. 504, 551, 552, 553, 556(c), 559, 561-569, 571-596; 5 U.S.C. 571-584; 18 U.S.C. 207; 28 U.S.C. 2112(a); 31 U.S.C. 9701; 46 U.S.C. 305, 40103-40104, 40304, 40306, 40501-40503, 40701-40706, 41101-41109, 41301-41309, 44101-44106; E.O. 11222 of May 8, 1965.

Subpart S—Informal Procedure for Adjudication of Small Claims

2. Revise § 502.301(b) to read as follows:

§ 502.301 Statement of policy.

* * * * *

(b) With the consent of both parties, claims filed under this subpart in the amount of $50,000 or less will be decided by a Small Claims Officer appointed by the Federal Maritime Commission's Chief Administrative Law Judge, without the necessity of formal proceedings under the rules of this part. Authority to issue decisions under this subpart is delegated to the appointed Small Claims Officer.

* * * * *

§ 502.304 [Amended]

3. Amend § 502.304 by:

a. In paragraphs (a), (d), (e), (g), and (h) removing the reference “Settlement Officer” and adding the reference “Small Claims Officer” in its place; and

b. In paragraphs (g) and (h) removing the reference “Settlement Officer's” and adding the reference “Small Claims Officer's” in its place.

Exhibit No. 1 to Subpart S of Part 502 [Amended]

4. Amend Exhibit No. 1 to Subpart S, paragraph VII, by removing the reference “Settlement Officer” and adding the reference “Small Claims Officer” in its place.

Exhibit No. 2 to Subpart S of Part 502 [Amended]

5. Amend Exhibit No. 2 to Subpart S, by removing the reference “Settlement Officer” and adding the reference “Small Claims Officer” in its place.

By the Commission.
Karen V. Gregory,
Secretary.

[FR Doc. 2014-18917 Filed 8-8-14; 8:45 am]

BILLING CODE 6730-01-P